DEPARTMENT OF HEALTH AND HUMAN SERVICES

Centers for Disease Control and Prevention

[60-Day-14-14BE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to CDC/ATSDR LeRoy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Worksite Health Scorecard—New—National Center for Chronic Disease Prevention and Health Promotion (NCCDPHP), Centers for Disease Control and Prevention (CDC).

Background and Brief Description

In the United States, chronic diseases such as heart disease, obesity and diabetes are among the leading causes of death and disability. Although chronic diseases are among the most common and costly health problems, they are also among the most preventable. Adopting healthy behaviors—such as eating nutritious foods, being physically active and avoiding tobacco use—can prevent the devastating effects and reduce the rates of these diseases.

Employers are recognizing the role they can play in creating healthy work environments and providing employees with opportunities to make healthy lifestyle choices. To support these efforts, the Centers for Disease Control and Prevention (CDC) plans to develop an online organizational assessment tool called the CDC Worksite Health Scorecard.

The CDC Worksite Health Scorecard is authorized by the Public Health Service Act and funded through the Prevention and Public Health Fund of the Patient Protection and Affordable Care Act (ACA). The CDC Worksite Health Scorecard is a tool designed to help employers assess whether they have implemented evidence-based health promotion interventions or strategies in their worksites to prevent heart disease, stroke, and related conditions such as hypertension, diabetes, and obesity. The assessment contains 125 yes/no questions that assess how evidence-based health promotion strategies are implemented at a worksite. These strategies include health promoting counseling services, environmental supports, policies, health plan benefits, and other worksite programs shown to be effective in preventing heart disease, stroke, and related health conditions. Employers can use this tool to assess how a comprehensive health promotion and disease prevention program is offered to their employees, to help identify program gaps, and to prioritize across the following health topics: Organizational Supports; Tobacco Control; Nutrition; Physical Activity; Weight Management; Stress Management; Depression; High Blood Pressure; High Cholesterol; Diabetes; Signs and Symptoms of Heart Attack and Stroke; Emergency Response to Heart Attack and Stroke; Lactation Support; Community Resources; Occupational Health and Safety; and Vaccine-Preventable Diseases.

Employers, human resource managers, health benefit managers, health education staff, occupational nurses, medical directors, wellness directors, or others responsible for worksite health promotion can use the CDC Worksite Health Scorecard to establish benchmarks for their organizations and track improvements over time. State health departments may assist employers and business coalitions in using the tool and help them find ways to establish healthier workplaces. State health departments also can use the tool for monitoring worksite practices, establishing best practice benchmarks, and more effectively directing resources to support employers. Employers who complete the CDC Worksite Health Scorecard will be provided with workplace health program planning and implementation tools. Participating employers may also receive technical assistance and training.

The CDC Worksite Health Scorecard is a voluntary, self-reported online survey that will be available to any public/private employer regardless of size, industry sector, or geographic location. The online system will require the creation of a user account with employer contact information so that employer representatives can complete the CDC Worksite Health Scorecard instrument; receive an immediate feedback report on existing program gaps; and benchmark themselves against other employers using the CDC Worksite Health Scorecard. It is recommended that the CDC Worksite Health Scorecard be repeated on an annual basis.

CDC is requesting Office of Management and Budget (OMB) approval by March 2014. The information to be collected will allow CDC to register employers and permit access to the survey and other resources such as the user manual, feedback reports, and tools for employers. CDC will also use the information to generate benchmark reports for comparing the number of workplace health strategies an individual employer has implemented to the number of strategies implemented by other employers using the CDC Worksite Health Scorecard, to identify success drivers for building and maintaining successful workplace health programs, to raise awareness and knowledge among employers about science-based workplace health program strategies, to develop additional tools and resources for employers, and to evaluate the impact of the CDC Worksite Health Scorecard on the adoption of workplace health programs, policies and environmental supports.

OMB approval is requested for three years. CDC estimates that 600 employers will complete the CDC Worksite Health Scorecard per year. Participation is voluntary and there are no costs to participants other than their time.

Estimated Annualized Burden Hours
Type of respondents | Form name | Number of respondents | Number of responses per respondent | Average burden per response (in hr) | Total burden (in hr)
Employers | CDC Worksite Health Scorecard | 600 | 1 | 30/60 | 300
Total |  |  |  |  | 300

LeRoy Richardson,
Chief, Information Collection Review Office, Office of Scientific Integrity, Office of the Associate Director for Science, Office of the Director, Centers for Disease Control and Prevention.

[FR Doc. 2013-26436 Filed 11-4-13; 8:45 am]

BILLING CODE 4163-18-P